DEPARTMENT OF ENERGY

Federal Energy Regulatory Commission

[Project No. 12948-002]

Clementine Dam Hydro, LLC; Notice of Surrender of Preliminary Permit

October 17, 2008.

Take notice that Clementine Dam Hydro, LLC, permittee for the proposed Clementine Dam Hydroelectric Project, has requested that its preliminary permit be terminated. The permit was issued on April 16, 2008, and would have expired on March 31, 2011.¹ The project would have been located on the American River in Placer County, California.

¹ 123 FERC ¶ 62,053.

The permittee filed the request on October 15, 2008, and the preliminary permit for Project No. 12948 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Kimberly D. Bose,
Secretary.

[FR Doc. E8-25343 Filed 10-23-08; 8:45 am]

BILLING CODE 6717-01-P